DEPARTMENT OF ENERGY

Orders Granting Authority To Import and Export Natural Gas, To Import and Export Liquefied Natural Gas and Vacating Prior Authority

During May 2014.

| FE Docket Nos.
HESS ENERGY MARKETING, LLC | 14-32-NG
SEQUENT ENERGY MANAGEMENT, L.P | 14-34-NG
PACIFIC GAS AND ELECTRIC | 14-36-NG
SOCCO, INC | 14-37-NG
QUICKSILVER RESOURCES INC | 14-38-NG
UNITED ENERGY TRADING CANADA, ULC | 14-39-NG
NATIONAL FUEL RESOURCES, INC | 14-40-NG
ALCOA INC | 14-41-NG
NORTHWEST NATURAL GAS COMPANY | 14-47-NG
NEW YORK STATE ELECTRIC & GAS CORPORATION | 14-42-NG
WEST TEXAS GAS, INC | 14-43-NG
BG ENERGY MERCHANTS, LLC | 14-44-NG
MINNESOTA ENERGY RESOURCES CORPORATION | 14-45-NG
SHELL ENERGY NORTH AMERICA (US) L.P | 14-46-NG
PAA NATURAL GAS CANADA ULC | 14-48-NG
VIRGINIA POWER ENERGY MARKETING, INC | 14-50-NG
GAVILON, LLC | 13-50-NG
HESS CORPORATION | 12-81-NG
THE DOW CHEMICAL COMPANY | 14-49-NG
EMPIRE NATURAL GAS CORPORATION | 14-51-NG
SEMPRA GENERATION, LLC | 14-52-NG
IGI RESOURCES, INC | 14-62-NG
TOURMALINE OIL MARKETING CORP | 14-64-NG
UNITED ENERGY TRADING, LLC | 14-65-NG

AGENCY: Office of Fossil Energy, Department of Energy (DOE.

ACTION: Notice of orders.

SUMMARY: The Office of Fossil Energy (FE of the Department of Energy gives notice that during May 2014, it issued orders granting authority to import and export natural gas, to import and export liquefied natural gas and vacating prior authority. These orders are summarized in the attached appendix and may be found on the FE Web site at http://www.fossil.energy.gov/programs/gasregulation/authorizations/Orders-2014.html.

They are also available for inspection and copying in the Office of Fossil Energy, Office of Oil and Gas Global Security and Supply, Docket Room 3E-033, Forrestal Building, 1000 Independence Avenue SW., Washington, DC 20585, (202) 586-9478. The Docket Room is open between the hours of 8:00 a.m. and 4:30 p.m., Monday through Friday, except Federal holidays.

Issued in Washington, DC, on July 24, 2014.
John A. Anderson,
Director, Division of Natural Gas Regulatory Activities, Office of Oil and Gas Global Security and Supply, Office of Oil and Natural Gas.

Appendix

DOE/FE Orders Granting Import/Export Authorizations
3420 | 05/01/14 | 14-32-NG | Hess Energy Marketing, LLC | Order granting blanket authority to import/export natural gas from/to Canada.
3421 | 05/01/14 | 14-34-NG | Sequent Energy Management, L.P | Order granting blanket authority to import/export natural gas from/to Canada.
3422 | 05/01/14 | 14-36-NG | Pacific Gas and Electric | Order granting blanket authority to import natural gas from Canada and vacating prior authority Order 3328.
3423 | 05/01/14 | 14-37-NG | Socco, Inc | Order granting blanket authority to import natural gas from Canada.
3424 | 05/01/14 | 14-38-NG | Quicksilver Resources Inc | Order granting blanket authority to import/export natural gas from/to Mexico.
3425 | 05/01/14 | 14-39-NG | United Energy Trading Canada, ULC | Order granting blanket authority to import/export natural gas from/to Canada.
3426 | 05/01/14 | 14-40-NG | National Fuel Resources, Inc | Order granting blanket authority to import/export natural gas from/to Canada.
3427 | 05/01/14 | 14-41-NG | Alcoa Inc | Order granting blanket authority to import natural gas from Canada.
3428 | 05/01/14 | 14-47-NG | Northwest Natural Gas Company | Order granting blanket authority to import/export natural gas from/to Canada.
3429 | 05/08/14 | 14-42-NG | New York State Electric & Gas Corporation | Order granting blanket authority to import/export natural gas from/to Canada.
3430 | 05/08/14 | 14-43-NG | West Texas Gas, Inc | Order granting blanket authority to export natural gas to Mexico.
3431 | 05/08/14 | 14-44-NG | BG Energy Merchants, LLC | Order granting blanket authority to import/export natural gas from/to Canada/Mexico.
3432 | 05/08/14 | 14-45-NG | Minnesota Energy Resources Corporation | Order granting blanket authority to import/export natural gas from/to Canada.
3433 | 05/08/14 | 14-46-NG | Shell Energy North America (US, L.P | Order granting blanket authority to import/export natural gas from/to Canada/Mexico, to export LNG to Canada/Mexico by vessel and truck, and to import LNG from various international sources by vessel.
3434 | 05/08/14 | 14-48-NG | PAA Natural Gas Canada ULC | Order granting blanket authority to import/export natural gas from/to Canada.
3435 | 05/15/14 | 14-50-NG | Virginia Energy Power Marketing, Inc | Order granting blanket authority to import/export natural gas from/to Canada.
3280-A | 05/15/14 | 13-50-NG | Gavilon, LLC | Order vacating blanket authority to import/export natural gas from/to Canada.
3133-A | 05/15/14 | 12-81-NG | Hess Corporation | Order vacating blanket authority to import/export natural gas from/to Canada.
3436 | 05/29/14 | 14-49-NG | The Dow Chemical Company | Order granting blanket authority to import/export natural gas from/to Canada/Mexico, and to import LNG from various international sources by vessel.
3437 | 05/29/14 | 14-51-NG | Empire Natural Gas Corporation | Order granting blanket authority to import/export natural gas from/to Canada.
3438 | 05/29/14 | 14-52-NG | Sempra Generation, LLC | Order granting blanket authority to import/export natural gas from/to Canada.
3439 | 05/29/14 | 14-62-NG | IGI Resources, Inc | Order granting blanket authority to import/export natural gas from/to Canada.
3440 | 05/29/14 | 14-64-NG | Tourmaline Oil Marketing Corp | Order granting blanket authority to import natural gas from Canada.
3441 | 05/29/14 | 14-65-NG | United Energy Trading, LLC | Order granting blanket authority to import/export natural gas from/to Canada.

[FR Doc. 2014-18350 Filed 8-1-14; 8:45 am]

BILLING CODE 6450-01-P